DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from June 22, to June 26, 2009.

For further information, please contact Edson Beall via: United States Postal Service mail, at the National Register of Historic Places, 2280, National Park Service, 1849 C St. NW., Washington, DC 20240; in person (by appointment), 1201 Eye St., NW., 8th floor, Washington, DC 20005; by fax, 202-371-2229; by phone, 202-354-2255; or by e-mail, Edson_Beall@nps.gov.

Dated: August 19, 2009.
J. Paul Loether,
Chief, National Register of Historic Places/National Historic Landmarks Program.

KEY: State, County, Property Name, Address/Boundary, City, Vicinity, Reference Number, Action, Date, Multiple Name

CONNECTICUT

Fairfield County

Silvermine Center Historic District, Roughly centered on Silvermine & Perry Aves., Norwalk, 07001441, LISTED, 6/23/09

GEORGIA

Fulton County

Collier Heights Historic District, Bounded approximately by Hamilton E. Holmes Dr. on the E., Donald Lee Hollowell Pkwy. on the N., US 285 on the W, US 20, Atlanta, 09000457, LISTED, 6/23/09

GEORGIA

Polk County

Rockmart Downtown Historic District, Roughly bounded by Water, Beauregard, Narble, and Elm Sts., Rockmart, 09000458, LISTED, 6/24/09

INDIANA

Clark County

Ohio Falls Car and Locomotive Company Historic District, 300 Missouri Ave., Jeffersonville, 09000494, DETERMINED ELIGIBLE, 6/25/09

INDIANA

Vanderburgh County

USS LST 325 (tank landing ship), 840 LST Dr., Evansville, 09000434, LISTED, 6/24/09

MICHIGAN

Jackson County

Hebrew Cemetery, 420 N.W. Ave., Jackson, 09000474, LISTED, 6/24/09

MICHIGAN

Kent County

Alten, Mathias., House and Studio, 1593 E. Fulton St., Grand Rapids, 08001102, LISTED, 6/23/09

MICHIGAN

Newaygo County

Croton Dam Mound Group, Address Restricted, Croton vicinity, 08000846, LISTED, 6/23/09

PENNSYLVANIA

Berks County

Douglass, George, House, 19 Old Philadelphia Pike, Amity Township, 09000462, LISTED, 6/25/09

PENNSYLVANIA

Lackawanna County

Madison, James, School, 528 Quincy Ave., Scranton, 09000463, LISTED, 6/24/09 (Educational Resources of Pennsylvania MPS)

[FR Doc. E9-20297 Filed 8-21-09; 8:45 am]

BILLING CODE P